DEPARTMENT OF COMMERCE

National Oceanic and Atmospheric Administration

[RTID 0648-XC464]

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings throughout the main Hawaiian Islands to solicit public input and comments on management alternatives for non-commercial fishing in the Northwestern Hawaiian Islands (NWHI) Monument Expansion area.

DATES: The meetings will be held between November 1 and November 10, 2022. For specific times and agendas, see SUPPLEMENTARY INFORMATION.

ADDRESSES: The meetings will be held at the Cafeteria, Elise H. Wilcox Elementary School at 4319 Hardy St., Lihue, Kauai, HI 96766; University of Hawaii Maui College at 310 W Kaahumanu Ave., Kahului, Maui, HI 96732; Grand Naniloa Hotel at 93 Banyan Dr. Hilo, Hawaii Island, HI 96720; Royal Kona Resort at 75-5852 Alii Dr. Kailua-Kona, Hawaii Island, HI 96740; Lanikeha Community Center in 2200 Farrington Ave. Hoolehua, Molokai, HI 96729; and Ala Moana Hotel at 410 Atkinson Dr. Honolulu, Oahu, HI 96814.

FOR FURTHER INFORMATION CONTACT: Kitty M. Simonds, Executive Director, Western Pacific Fishery Management Council; phone: (808) 522-8220.

SUPPLEMENTARY INFORMATION: All times shown are in Hawaii Standard Time. Kauai, November 1, 2022, 6 p.m.-9 p.m.; Maui, November 3, 2022, 6 p.m.-9 p.m.; Hilo, November 4, 2022, 6 p.m.-9 p.m.; Kona, November 5, 2022, 10 a.m.-1 p.m.; Molokai, November 8, 2022, 6 p.m.-9 p.m.; and Honolulu, November 10, 2022, 6 p.m.-9 p.m.

Please note that the evolving public health situation regarding COVID-19 may affect public participation requirements and conduct at these public meetings.

Background documents for these meetings will be available at www.wpcouncil.org. Written public comments should be sent to Kitty M. Simonds, Executive Director; Western Pacific Fishery Management Council, 1164 Bishop Street, Suite 1400, Honolulu, HI 96813, phone: (808) 522-8220 or fax: (808) 522-8226; or email: info@wpcouncil.org. Instructions for providing oral public comments during the meeting will be posted on the Council website.

Agenda for All Meetings

1. Welcome and Introductions

2. Subsistence fishing in the NWHI Monument Expansion Area

a. History of NWHI Fishing

b. Monument and Expansion

c. Proposed Fishing Regulations

d. Public Comments

3. Other Business

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: October 13, 2022.
Rey Israel Marquez,
Acting Deputy Director, Office of Sustainable Fisheries, National Marine Fisheries Service.

[FR Doc. 2022-22633 Filed 10-17-22; 8:45 am]

BILLING CODE 3510-22-P